ENVIRONMENTAL PROTECTION AGENCY

40 CFR Part 180

[EPA-HQ-OPP-2006-0821; FRL-8140-9]

Buprofezin; Pesticide Tolerance; Technical Amendment

AGENCY: Environmental Protection Agency (EPA).

ACTION: Final rule; technical amendment.

SUMMARY: EPA issued a final rule in the Federal Register of June 27, 2007, concerning the establishment of tolerances for residues of buprofezin on various commodities. This document is being issued to correct a typographical omission.

DATES: This final rule is effective August 22, 2007.

ADDRESSES: EPA has established a docket for this action under docket identification (ID) number EPA-HQ-OPP-2006-0821. To access the electronic docket, go to http://www.regulations.gov, select “Advanced Search,” then “Docket Search.” Insert the docket ID number where indicated and select the “Submit” button. Follow the instructions on the regulations.gov web site to view the docket index or access available documents. All documents in the docket are listed in the docket index available in regulations.gov. Although listed in the index, some information is not publicly available, e.g., Confidential Business Information (CBI) or other information whose disclosure is restricted by statute. Certain other material, such as copyrighted material, is not placed on the Internet and will be publicly available only in hard copy form. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Barbara Madden, Registration Division (7505P), Office of Pesticide Programs, Environmental Protection Agency, 1200 Pennsylvania Ave., NW., Washington DC 20460-0001; telephone number: (703) 305-6463; e-mail address: madden.barbara@epa.gov.

SUPPLEMENTARY INFORMATION:

I. General Information

A. Does this Action Apply to Me?

The Agency included in the final rule a list of those who may be potentially affected by this action. If you have questions regarding the applicability of this action to a particular entity, consult the person listed under the FOR FURTHER INFORMATION CONTACT.

B. How Can I Access Electronic Copies of this Document and Other Related Information?

In addition to using regulations.gov, you may access this Federal Register document electronically through the EPA Internet under the “Federal Register” listings at http://www.epa.gov/fedrgstr.

II. What Does this Correction Do?

FR Doc. E7-12161 published in the Federal Register of June 27, 2007 (72 FR 35182) (FRL-8133-1) is corrected as follows:

On page 35187, 180.511(a), the table in the amendment to § 180.511(a) establishing tolerances appeared as a two column table. The table should have appeared as a three column table. The omitted third column should include the heading “Expiration/Revocation Date”, and the entry “None” to correspond to the tolerance listed in each row. This document is being published to correct that omission.

III. Why is this Correction Issued as a Final Rule?

Section 553 of the Administrative Procedure Act (APA), 5 U.S.C. 553(b)(B), provides that, when an Agency for good cause finds that notice and public procedure are impracticable, unnecessary or contrary to the public interest, the Agency may issue a final rule without providing notice and an opportunity for public comment. EPA has determined that there is good cause for making this technical amendment final without prior proposal and opportunity for comment, because the use of notice and comment procedures is unnecessary to effectuate this correction. EPA finds that this constitutes good cause under 5 U.S.C. 553(b)(B).

IV. Do Any of the Statutory and Executive Order Reviews Apply to this Action?

No. This action only corrects typographical omissions for a previously published final rule and does not impose any new requirements. EPA's compliance with the statutes and Executive Orders for the underlying rule is discussed in Unit VI. of the June 27, 2007 final rule (71 FR 35182).

V. Congressional Review Act

The Congressional Review Act, 5 U.S.C. 801 et seq., generally provides that before a rule may take effect, the Agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: August 3, 2007.
Lois Rossi,
Director, Registration Division, Office of Pesticide Programs.

Therefore, 40 CFR part 180 is amended as follows:

PART 180--[AMENDED]

1. The authority citation for part 180 continues to read as follows:

Authority: 21 U.S.C. 321(q), 346a and 371.

2. Section 180.511 is amended in paragraph (a) in the table as follows:

i. By alphabetically adding “Apricot” and “Fruit, stone, group 12, except apricot and peach”; and

ii. By revising the entries for “Canistel,” “Grape,” “Mango,” “Papaya,” “Sapodilla,” “Sapote, black,” “Sapote, mamey,” and “Star apple.”

The amendments read as follows:

§ 180.511 Buprofezin; tolerances for residues.

(a) * * *

Commodity | Parts per million | Expiration/Revocation Date
* * * * *
Apricot | 9.0 | None
* * * * *
Canistel | 0.90 | None
* * * * *
Fruit, stone, group 12, except apricot and peach | 1.9 | None
* * * * *
Grape | 2.5 | None
* * * * *
Mango | 0.90 | None
* * * * *
Papaya | 0.90 | None
* * * * *
Sapodilla | 0.90 | None
Sapote, black | 0.90 | None
Sapote, mamey | 0.90 | None
* * * * *
Star apple | 0.90 | None
* * * * *

* * * * *

[FR Doc. E7-16604 Filed 8-21-07; 8:45 am]

BILLING CODE 6560-50-S